DEPARTMENT OF DEFENSE

Department of the Air Force

[USAF-2007-0016]

Privacy Act of 1974; System of Records

AGENCY: Department of the Air Force, DoD.

ACTION: Notice to Add a Record System.

SUMMARY: The Department of the Air Force proposes to add a system of records notice to its inventory of records systems subject to the Privacy Act of 1974 (5 U.S.C. 552a), as amended.

DATES: The actions will be effective on April 6, 2007 unless comments are received that would result in a contrary determination.

ADDRESSES: Send comments to the Air Force Privacy Act Officer, Office of Warfighting Integration and Chief Information Officer, SAF/XCISI, 1800 Air Force Pentagon, Suite 220, Washington, DC 20330-1800.

FOR FURTHER INFORMATION CONTACT: Ms. Novella Hill at (703) 588-7855.

SUPPLEMENTARY INFORMATION: The Department of the Air Force's record system notices for records systems subject to the Privacy Act of 1974 (5 U.S.C. 552a), as amended, have been published in the Federal Register and are available from the address above.

The proposed system report, as required by 5 U.S.C. 522a(r) of the Privacy Act of 1974, as amended, was submitted on February 26, 2007, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: February 28, 2007.
C.R. Choate,
Alternate OSD Federal Register Liaison Officer, Department of Defense.

F031 AFCAF/CASPR A

System Name:

Air Force Central Adjudication Facility (AFCAF) Central Adjudication Security Personnel Repository (CASPR) Records.

System Location:

Air Force Central Adjudication Facility, 229 Brookley Avenue, Bolling AFB, DC 20032-7040.

Categories of Individuals Covered by the System:

Air Force civilian employees and applicants; Air Force military members and prospective members, including Air Force Reserve and Air National Guard; Air Force contractor employees requiring unescorted access; Air Force Academy and Reserve Officer Training Corp Cadets and applicants; overseas educators involved in the education and orientation of military personnel; Non-appropriated Fund Instrumentality; personnel and applicants for sensitive positions; personnel requiring Department of Defense building passes, whose personnel security investigations contain significant unfavorable information, whose cases were previously processed or adjudicated under the Air Force Military or Civilian Security Programs, or who are the subject of Security Information Files initiated by commanders. Included as well are Contractors, Military and Civilian employees of Special Access Programs, and AFCAF civilian and contractor employees.

Categories of Records in the System:

Records documenting the personnel security adjudicative and management process, to include individual's Social Security Number; name; date of birth; type of Air Force affiliation; employing activity; status of current adjudicative action; records managing Freedom of Information Act and Privacy Act requests; and Congressional inquiries.

Authority for Maintenance of the System:

10 U.S.C. 8013, Secretary of the Air Force; 5 U.S.C. 301, Departmental Regulations; 5 U.S.C. 7531-7533; E.O. 10450, Security Requirements for Government Employment; DoD 5200.2-R, Department of Defense Personnel Security Program; and E.O. 9397 (SSN).

Purpose(s):

Central Adjudication Security Personnel Repository (CASPR) records will be used as a management tool and to compile statistical data to measure the effectiveness of the adjudicative program and procedures for the Department of Air Force.

Routine use of records maintained in the system including categories of users and the purpose of such uses:

In addition to those disclosures generally permitted under 5 U.S.C. Section 552a(b), the Privacy Act of 1974, these records or information contained therein may specifically be may be disclosed outside of DoD as follows to:

The DoD “Blanket Routine Uses” set forth at the beginning of the Air Force's compilation of system of records notices also apply to this system.

Policies and practices for storing, retrieving, accessing, safeguarding, retaining and disposing of records in the system:

Storage:

Records contained in the system are stored on electronic media (such as CD-ROM disks, optical digital data disks, computers, and computer output products).

Retrievability:

Individual name, Social Security Number (SSN) and Case Number as assigned.

Safeguards:

Electronically and optically stored records are maintained in “fail safe” system software with password-protected access. Only authorized personnel with a valid need-to-know are allowed to access. Additionally, users are subject to limitation within the system, based on their specific functions.

Retention and Disposal:

Automated data is stored actively during the adjudicative process. When either (1) the case has been closed or (2) the subject's affiliation with the Air Force ends, the records will be archived. Destruction of automated records is by erasure and/or degaussing.

System Manager and Address:

Director, Department of the Air Force, Air Force Central Adjudication Facility, 229 Brookley Avenue, Bolling AFB, Washington, DC 20032-7040.

Notification Procedure:

Individuals seeking to determine whether information about themselves is contained in this system should address written inquiries to the Air Force Central Adjudication Facility, 229 Brookley Avenue, Bolling AFB, Washington, DC 20032-7040.

Individual should provide their full name, Social Security Number, place and date of birth, full address, and a notarized statement or an unsworn declaration made in accordance with 28 U.S.C. 1746.

Records access procedures:

Individuals seeking access to information about themselves contained in this system should address written inquiries to the Department of the Air Force, Air Force Central Adjudication Facility, 229 Brookley Avenue Bolling AFB, Washington, DC 20032-7040.

Individual should provide their full name, Social Security Number, place and date of birth, full address, and a notarized statement or an unsworn declaration made in accordance with 28 U.S.C. 1746.

Contesting records procedures:

The Air Force rules for accessing records, and for contesting contents or appealing initial agency determinations are published in Air Force Instruction 33-332; 32 CFR part 806b; or may be obtained from the system manager.

Records source categories:

Information contained in this system is derived from investigative agencies, personnel and medical records, correspondences from offices and organization of assignment, Commanders, and Air Force Staff Offices; and records maintained by adjudicator personnel.

Exemptions claimed for the System:

None.

[FR Doc. E7-4021 Filed 3-6-07; 8:45 am]

BILLING CODE 5001-06-P